DEPARTMENT OF DEFENSE

Department of the Army

Availability for Non-Exclusive, Exclusive, or Partially Exclusive Licensing of U.S. Patent Concerning Site-Directed Mutagenesis of Esterases

AGENCY: Department of the Army, DOD.

ACTION: Notice.

SUMMARY: In accordance with 37 CFR 404.6 and 404.7, announcement is made of the availability for licensing of U.S. Patent No. 6,001,625 entitled “Site-Directed Mutagenesis of Esterases,” issued December 14, 1999. The United States Government, as represented by the Secretary of the Army has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: A method of modifying esterases by substitution with histadine of at least one amino acid within 6 A° of an active site serine provides esterases useful for detoxifying organophasphates.

Luz D. Ortiz,
Army Federal Register Liaison Officer.

[FR Doc. 02-14227 Filed 6-5-02; 8:45 am]

BILLING CODE 3710-08-M